FEDERAL RETIREMENT THRIFT INVESTMENT BOARD

5 CFR Parts 1604, 1651, 1653, and 1690

Uniformed Services Accounts; Death Benefits; Court Orders and Legal Processes Affecting Thrift Savings Plan Accounts; Thrift Savings Plan; Correction

AGENCY: Federal Retirement Thrift Investment Board.

ACTION: Proposed rules; correction.

SUMMARY: The Federal Retirement Thrift Investment Board (Agency) corrects its statement regarding the Regulatory Flexibility Act in proposed rules that appeared in the Federal Register of October 22, 2009. The correction clarifies that the proposed rules will not have a significant economic impact on a substantial number of small entities because they will only affect Federal employees and members of the uniformed services.

FOR FURTHER INFORMATION CONTACT: Tim Carey at 202-942-1666 or Laurissa Stokes at 202-942-1645.

Correction

In proposed rules FR Doc. 09-25426, beginning on page 54491 in the issue of October 22, 2009, make the following correction in the SUPPLEMENTARY INFORMATION section. On page 54492 in the second column, under the heading “Regulatory Flexibility Act,” after the sentence “I certify that this regulation will not have a significant economic impact on a substantial number of small entities.”, add the following:

“This regulation will affect Federal employees and members of the uniformed services who participate in the Thrift Savings Plan, which is a Federal defined contribution retirement savings plan created under the Federal Employees' Retirement System Act of 1986 (FERSA), Public Law 99-335, 100 Stat. 514, and which is administered by the Agency.”

Dated: October 30, 2009.
Thomas K. Emswiler,
General Counsel.

[FR Doc. E9-26583 Filed 11-3-09; 8:45 am]

BILLING CODE 6760-01-P